DEPARTMENT OF COMMERCE

National Oceanic and Atmospheric Administration

Environmental Protection Agency

[FRL-7019-1]

Coastal Nonpoint Pollution Control Program: Approval Decisions on Massachusetts and New Hampshire Coastal Nonpoint Pollution Control Programs

AGENCY: National Oceanic and Atmospheric Administration, U.S. Department of Commerce, and The U.S. Environmental Protection Agency.

ACTION: Notice of Intent to Approve the Massachusetts and New Hampshire Coastal Nonpoint Programs.

SUMMARY: Notice is hereby given of the intent to fully approve the Massachusetts and New Hampshire Coastal Nonpoint Pollution Control Programs (coastal nonpoint programs) and of the availability of the draft Approval Decisions on conditions for the Massachusetts and New Hampshire coastal nonpoint programs. Section 6217 of the Coastal Zone Act Reauthorization Amendments (CZARA), 16 U.S.C. 1455b, requires states and territories with coastal zone management programs that have received approval under section 306 of the Coastal Zone Management Act to develop and implement coastal nonpoint programs. Coastal states and territories were required to submit their coastal nonpoint programs to the National Oceanic and Atmospheric Administration (NOAA) and the U.S. Environmental Protection Agency (EPA) for approval in July 1995. NOAA and EPA conditionally approved the Massachusetts coastal nonpoint program on September 24, 1997 and the New Hampshire coastal nonpoint program on November 18, 1997. NOAA and EPA have drafted approval decisions describing how Massachusetts and New Hampshire have satisfied the conditions placed on their programs and therefore have fully approved coastal nonpoint programs.

NOAA and EPA are making the draft decisions for the Massachusetts and New Hampshire coastal nonpoint programs available for 30-day public comment periods. If no comments are received, the Massachusetts and New Hampshire programs will be approved. If comments are received, NOAA and EPA will consider whether such comments are significant enough to affect the decision to fully approve the programs.

Copies of the draft Approval Decisions can be found on the NOAA website at http://www.ocrm.nos.noaa.gov/czm/6217/ or may be obtained upon request from: Joseph P. Flanagan, Coastal Programs Division (N/ORM3), Office of Ocean and Coastal Resource Management, NOS, NOAA, 1305 East-West Highway, Silver Spring, Maryland, 20910, tel. 301-713-3155, extension 201, e-mail joseph.flanagan@noaa.gov.

DATES: Individuals or organizations wishing to submit comments on the draft Approval Decisions should do so by August 29, 2001.

ADDRESSES: Comments should be made to John King, Acting Chief, Coastal Programs Division (N/ORM3), Office of Ocean and Coastal Resource Management, NOS, NOAA, 1305 East-West Highway, Silver Spring, Maryland, tel. 301-713-3155 extension 195, e-mail john.king@noaa.gov or, for Massachusetts, to Bruce Rosinoff, tel. 617-918-1698, e-mail rosinoff.bruce@epa.gov; for New Hampshire, to Warren Howard, tel. 617-918-1587, e-mail howard.warren@epa.gov, EPA Region 1, 1 Congress Street, Suite 1100, Boston, MA, 02114-2023.

FOR FURTHER INFORMATION CONTACT: For Massachusetts, Joelle Gore, Coastal Programs Division (N/ORM3), Office of Ocean and Coastal Resource Management, NOS, NOAA, 1305 East-West Highway, Silver Spring, Maryland, 20910, tel. 301-713-3155, extension 177, e-mail joelle.gore@noaa.gov; for New Hampshire, Elisabeth Morgan, Coastal Programs Division (N/ORM3), Office of Ocean and Coastal Resource Management, NOS, NOAA, 1305 East-West Highway, Silver Spring, Maryland, 20910, tel. 301-713-3155, extension 166, e-mail elisabeth.morgan@noaa.gov.

Federal Domestic Assistance Catalog 11.419 Coastal Zone Management Program Administration
Dated: July 17, 2001.
Ted I. Lillestolen,
Deputy Assistant Administrator for Ocean Services and Coastal Zone Management, National Oceanic and Atmospheric Administration.
Diane C. Regas,
Acting Assistant Administrataor, Office of Water, Environmental Protection Agency.

[FR Doc. 01-18881 Filed 7-27-01; 8:45 am]

BILLING CODE 3510-08-P